DEPARTMENT OF HEALTH AND HUMAN SERVICES

Agency for Toxic Substances and Disease Registry (ATSDR)

Solicitation of Interested Persons To Serve as Special Consultants to the Community and Tribal Subcommittee (CTS) of the Board of Scientific Counselors, ATSDR

AGENCY: Agency for Toxic Substances and Disease Registry (ATSDR), Department of Health and Human Services (HHS).

ACTION: Notice.

SUMMARY: This notice announces ATSDR's intent to fill 3 Special Consultant vacancies on the Community and Tribal Subcommittee of Board of Scientific Counselors ATSDR.

Background

The Community and Tribal Subcommittee is composed of four members of Board of Scientific Counselors, ATSDR. The CTS provides the board with a formal vehicle for citizens input. In 1994, three community and tribal representatives were selected to serve as Special Consultants to the CTS. At the end of their tenure, it was decided to increase the number of Special Consultants from three to eleven in order to bring a wider spectrum of representation from community and tribal members who live near hazardous waste sites, or are otherwise affected by hazardous substances in the community environment.

For further information: To express interest in serving as a Special Consultant to the CTS and obtain additional information, contact: Ruby Palmer, Designated Federal Official, CTS ATSDR (E-54), 1600 Clifton Road, NE, Atlanta, GA 30033; toll-free 1-888-422-8737.

Supplementary Information: ATSDR conducts public health-related activities at hazardous waste sites and releases, pursuant to the Comprehensive Environmental Response, Compensation, and Liability Act (CERCLA or Superfund) (42 U.S.C. 9601 et seq.). ATSDR established a Board of Scientific Counselors which is chartered under the Federal Advisory Committee Act (5 U.S.C. app.). In order to obtain input from communities and tribes located near superfund sites or hazardous waste sites, the Community and Tribal Subcommittee is recruiting three community and tribal representatives as consultants to the Subcommittee. The CTS objective is to provide BSC, ATSDR, with the views and recommendations of community and tribal representatives on ATSDR's community involvement programs, practices, policies, and other relevant issues impacting communities and tribes who live near Superfund and hazardous waste sites. The Subcommittee reviews ATSDR's community involvement programs and policies; provides advice, findings, and recommendations to the Board on these issues; and brings broad-based community and tribal involvement issues to the attention of the Board. The CTS will present its findings, advice, and recommendations to the full Board. The BSC will discuss and review reports of the Subcommittee and may forward recommendations to the Agency for action. The Community and Tribal Subcommittee will periodically meet and/or hold conference calls. A group consisting of Special Consultants, the CTS Chair and the Designated Federal Official will review the applications and develop a short list to be recommended to the Agency for consideration. The Agency, in consultation with the Board chair will then select the three community representatives to fill the vacancies, with special consideration given to the recommended slate. Accordingly, any person who lives in a community affected by a National Priority List or other hazardous waste site; who is a representative of a group that works at local, regional, or national locations with these communities; or who wishes to be considered for serving as a special consultant on this Subcommittee should write or call the ATSDR contact person listed above to obtain additional information.

The Director, Management Analysis and Services Office, has been delegated the authority to sign Federal Register Notices pertaining to announcements of meetings and other committee management activities, for both the Centers for Disease Control and Prevention and the Agency for Toxic Substances and Disease Registry.

Joseph E. Salter,
Acting Director, Management Analysis and Services Office, Centers for Disease Control and Prevention.

BILLING CODE 4163-70-P

[FR Doc. 01-22504 Filed 9-6-01; 8:45 am]

BILLING CODE 4163-70-C